DEPARTMENT OF ENERGY

Federal Energy Regulatory Commission

[Project No. 2853-071]

Montana Dept. of Natural Resources and Conservation; Notice of Intent To File License Application, Filing of Pre-Application Document, Approving Use of the Traditional Licensing Process

a. Type of Filing: Notice of Intent to File License Application and Request to Use the Traditional Licensing Process.

b. Project No.: 2853-071.

c. Date Filed: February 21, 2019.

d. Submitted By: Montana Department of Natural Resources and Conservation (Montana DNRC).

e. Name of Project: Broadwater Hydroelectric Project.

f. Location: On the Missouri River in Broadwater County, Montana. The project occupies 44 acres of United States lands administered by U.S. Bureau of Land Management.

g. Filed Pursuant to: 18 CFR 5.3 of the Commission's regulations.

h. Potential Applicant Contact: Dave Lofftus, Hydro Power Program Manager, Department of Natural Resources and Conservation, State of Montana, 1424 9th Avenue, P.O. Box 201601, Helena, Montana 59620; (406) 444-6659; or email at dlofftus@mt.gov.

i. FERC Contact: Peter McBride at (202) 502-8132; or email at peter.mcbride@ferc.gov.

j. Montana DNRC filed its request to use the Traditional Licensing Process on February 21, 2019. Montana DNRC provided public notice of its request on February 15, 2019. In a letter dated April 18, 2019, the Director of the Division of Hydropower Licensing approved Montana DNRC's request to use the Traditional Licensing Process.

k. With this notice, we are initiating informal consultation with the U.S. Fish and Wildlife Service under section 7 of the Endangered Species Act and the joint agency regulations thereunder at 50 CFR, Part 402. We are also initiating consultation with the Montana State Historic Preservation Officer, as required by section 106, National Historic Preservation Act, and the implementing regulations of the Advisory Council on Historic Preservation at 36 CFR 800.2.

l. With this notice, we are designating Montana DNRC as the Commission's non-federal representative for carrying out informal consultation pursuant to section 7 of the Endangered Species Act; and consultation pursuant to section 106 of the National Historic Preservation Act.

m. Montana DNRC filed a Pre-Application Document (PAD; including a proposed process plan and schedule) with the Commission, pursuant to 18 CFR 5.6 of the Commission's regulations.

n. A copy of the PAD is available for review at the Commission in the Public Reference Room or may be viewed on the Commission's website (http://www.ferc.gov), using the eLibrary link. Enter the docket number, excluding the last three digits in the docket number field to access the document. For assistance, contact FERC Online Support at FERCONlineSupport@ferc.gov, (866) 208-3676 (toll free), or (202) 502-8659 (TTY). A copy is also available for inspection and reproduction at the address in paragraph h.

o. The licensee states its unequivocal intent to submit an application for a new license for Project No. 2853. Pursuant to 18 CFR 16.8, 16.9, and 16.10 each application for a new license and any competing license applications must be filed with the Commission at least 24 months prior to the expiration of the existing license. All applications for license for this project must be filed by June 30, 2022.

p. Register online at http://www.ferc.gov/docs-filing/esubscription.asp to be notified via email of new filing and issuances related to this or other pending projects. For assistance, contact FERC Online Support.

Dated: April 18, 2019.
Kimberly D. Bose,
Secretary.

[FR Doc. 2019-08215 Filed 4-23-19; 8:45 am]

BILLING CODE 6717-01-P